DEPARTMENT OF AGRICULTURE

Office of the Secretary

Black Hills National Forest Advisory Board

AGENCY: Office of the Secretary, USDA.

ACTION: Notice of Intent; establishment of Advisory Board.

SUMMARY: The Department of Agriculture is proposing to establish the Black Hills National Forest Advisory Board to obtain advice and recommendations on a broad range of forest issues such as forest plan revisions or amendments, travel management, forest monitoring and evaluation, and site-specific projects having forestwide implications.

FOR FURTHER INFORMATION CONTACT: Geraldine Bower, Planning Specialist, Ecosystem Management Coordination, Forest Service, (202) 205-1022.

SUPPLEMENTARY INFORMATION: Pursuant to the Federal Advisory Committee Act (5 U.S.C. App.), notice is hereby given that the U.S. Department of Agriculture, Black Hills National Forest, proposes to establish a Black Hills National Forest Advisory Board. The Board will provide advice and recommendations on a broad range of forest planning issues. The Board membership will consist of individuals representing commodity interests, amenity interests, and state and local government.

The establishment of this Board has been determined to be in the public interest in connection with the duties and responsibilities of the Black Hills National Forest. National forest management requires improved coordination among the interests and governmental entities responsible for land management decisions and the public that the agency serves. The Board will consist of 15 members that shall be representative of the following interests (this membership closely follows the membership outlined by the Secure Rural Schools and Community Self Determination Act for Resource Advisory Committees (16 U.S.C. 500, et seq.)):

1. Economic development interest

2. Developed outdoor recreation, off-highway vehicle users, or commercial recreation

3. Energy and mineral development interests

4. Commercial timber industry

5. Permittee (grazing or other land use within the Black Hills area)

6. Nationally recognized environmental organizations

7. Regionally or locally recognized environmental organizations

8. Dispersed recreational activities

9. Archeological or historical interests

10. Nationally or regionally recognized sportsmen's groups, such as anglers or hunters

11. South Dakota elected office

12. Wyoming elected office

13. County or local elected official in South Dakota or Wyoming

14. Tribal government elected or appointed official

15. State natural resource agency official from South Dakota or Wyoming

The chairing responsibility of the Board will be determined by the membership of the Board. The Forest Supervisor of the Black Hills National Forest will serve as the designated federal official under sections 10(e) and (f) of the Federal Advisory Committee Act (5 U.S.C. App.).

The Black Hills National Forest will provide further notices, as needed, of additional actions that will be taken to complete the formation of the Board.

Equal opportunity practices are followed in all appointments to advisory committees. To ensure that the recommendations of the Board have taken into account the needs of diverse groups served by the Black Hills National Forest, membership will include, to the extent practicable, individuals with demonstrated ability to represent minorities, women, and persons with disabilities.

Dated: November 25, 2002.
Lou Gallegos,
Assistant Secretary, Administration.

[FR Doc. 03-1429 Filed 1-22-03; 8:45 am]

BILLING CODE 3410-11-P